FEDERAL COMMUNICATIONS COMMISSION

47 CFR Parts 2, 87 and 95

[WT Docket No. 01-289; RM-9499; FCC 03-238]

Aviation Communications

AGENCY: Federal Communications Commission.

ACTION: Final rule.

SUMMARY: In this document the Commission amends its rules to accommodate technological advances, facilitate operational flexibility, and promote spectral efficiency in the Aviation Radio Service. The purpose of the Report and Order is to streamline and update our rules governing the Aviation Radio Service.

DATES: Effective September 13, 2004.

FOR FURTHER INFORMATION CONTACT: Jeffrey Tobias, Jeff.Tobias@FCC.gov, Public Safety and Critical Infrastructure Division, Wireless Telecommunications Bureau, (202) 418-0680, or TTY (202) 418-7233.

SUPPLEMENTARY INFORMATION: This is a summary of the Federal Communications Commission's Report and Order, FCC 03-238, adopted on October 6, 2003, and released on October 16, 2003. The full text of this document is available for inspection and copying during normal business hours in the FCC Reference Center, 445 12th Street, SW., Washington, DC 20554. The complete text may be purchased from the Commission's copy contractor, Qualex International, 445 12th Street, SW., Room CY-B402, Washington, DC 20554. The full text may also be downloaded at: www.fcc.gov. Alternative formats are available to persons with disabilities by contacting Brian Millin at (202) 418-7426 or TTY (202) 418-7365 or at bmillin@fcc.gov.

1. In the Report and Order, the FCC adopts changes to part 87 of the Commission's rules that were either proposed in or suggested in response to the Notice of Proposed Rule Making (“NPRM”) in this proceeding. The NPRM, released on October 16, 2001, 66 FR 64785 (December 14, 2001), proposed rule changes that were intended to consolidate, revise and streamline our rules governing aviation communications. These changes were proposed to ensure that the part 87 rules reflect recent technological advances and are consistent with other Commission rules. In addition, changes were proposed to eliminate regulations that are duplicative, outmoded, or otherwise unnecessary in the Aviation Radio Service.

2. The significant actions taken in this Report and Order are as follows: (i) Updating the technical specifications for Aeronautical Mobile Satellite (Route) Service (AMS(R)S) equipment; (ii) permitting certification of dual spacing transceivers to accommodate aircraft operating in countries that employ 8.33 kHz channel spacing; (iii) extending license terms of non-aircraft stations from five to ten years; (iv) extending the construction period for aeronautical advisory stations (unicoms) and radionavigation land station from eight months to one year; (v) eliminating all references to the Civil Air Patrol from part 87; (vi) authorizing use of the Differential Global Positioning System (DGPS) in the 108-117.975 MHz and 1559-1610 MHz bands on a non-developmental basis, while also requiring DGPS receivers to meet minimum interference immunity requirements; (vii) modifying the licensing procedures and eligibility requirements for unicoms; and (viii) retaining the rule specifying that there may be only one aeronautical enroute station licensee per location, while clarifying that the licensee is expected to provide access to the spectrum on a reasonable, nondiscriminatory basis.

I. Regulatory Matters

A. Paperwork Reduction Act

3. The Report and Order does not contain any new or modified information collection.

B. Final Regulatory Flexibility Certification

4. The Regulatory Flexibility Act of 1980, as amended (RFA), requires that a regulatory flexibility analysis be prepared for notice-and-comment rule making proceedings, unless the agency certifies that “the rule will not, if promulgated, have a significant economic impact on a substantial number of small entities.” The RFA generally defines the term “small entity” as having the same meaning as the terms “small business,” “small organization,” and “small governmental jurisdiction.”

In addition, the term “small business” has the same meaning as the term “small business concern” under the Small Business Act. A “small business concern” is one which: (i) Is independently owned and operated; (ii) is not dominant in its field of operation; and (iii) satisfies any additional criteria established by the SBA.

5. The purpose of the Report and Order is to streamline and update our part 87 rules governing the Aviation Radio Service. We believe that the rules adopted in the Report and Order do not impose any additional compliance burden on small entities.

6. We have identified those small entities that could conceivably be affected by the rule changes adopted herein. Small businesses in the aviation and marine radio services use a marine very high frequency (VHF) radio, any type of emergency position indicating radio beacon (EPIRB) and/or radar, a VHF aircraft radio, and/or any type of emergency locator transmitter (ELT). The adopted rules may also affect small businesses that manufacture radio equipment. However, we anticipate that these rule changes will not impose any new burdens on small entities, but in fact will reduce regulatory and procedural burdens on small entities. The general effect of the rule changes adopted herein is to streamline the rules, remove duplicative requirements, provide greater operational flexibility, promote spectrum efficiency, facilitate equipment certification, and make our rules consistent with international requirements, all of which are measures that should have an overall beneficial effect on the regulated entities. We certified in the Notice of Proposed Rule Making in this proceeding that the rules proposed therein would not, if promulgated, have a significant economic impact upon a substantial number of small entities, as that term is defined by the RFA, and no party has challenged or otherwise commented on that certification.

7. We therefore certify that the requirements of the Report and Order will not have a significant economic impact upon a substantial number of small entities, as that term is defined by the RFA.

8. The Commission will send a copy of the Report and Order, including a copy of this final certification, in a report to Congress pursuant to the Congressional Review Act. In addition, the Report and Order and this final certification will be sent to the Chief Counsel for Advocacy of the Small Business Administration.

II. Ordering Clauses

9. The Commission's Consumer Information Bureau, Reference Information Center, shall send a copy of this Report and Order including the Regulatory Flexibility Certification and to the Chief Counsel for Advocacy of the Small Business Administration.

List of Subjects

47 CFR Part 2

Radio.

47 CFR Parts 87 and 95

Communications equipment, Radio.

Federal Communications Commission.
Marlene H. Dortch,
Secretary.

Rule Changes

For the reasons discussed in the preamble, the Federal Communications Commission amends 47 CFR parts 2, 87 and 95 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106 is amended as follows:

a. In the list of International Footnotes under heading I., add footnotes 5.197A and 5.328B.

b. In the list of United States (US) Footnotes, revise footnote US31 and add footnote US343.

The revisions and additions read as follows:

§ 2.106 Table of Frequency Allocations.

* * * * *

International Footnotes

* * * * *

5.197A The band 108-117.975 MHz may also be used by the aeronautical mobile (R) service on a primary basis, limited to systems that transmit navigational information in support of air navigation and surveillance functions in accordance with recognized international aviation standards. Such use shall be in accordance with Resolution 413 (WRC-03) and shall not cause harmful interference to nor claim protection from stations operating in the aeronautical radionavigation service which operate in accordance with international aeronautical standards.

* * * * *

5.328B The use of the bands 1164-1300 MHz, 1559-1610 MHz and 5010-5030 MHz by systems and networks in the radionavigation-satellite service for which complete coordination or notification information, as appropriate, is received by the Radiocommunication Bureau after 1 January 2005 is subject to the application of the provisions of Nos. 9.12, 9.12A and 9.13. Resolution 610 (WRC-03) shall also apply.

* * * * *

United States (US) Footnotes

* * * * *

US31 The frequencies 122.700, 122.725, 122.750, 122.800, 122.950, 122.975, 123.000, 123.050 and 123.075 MHz may be assigned to aeronautical advisory stations. In addition, at landing areas having a part-time or no airdrome control tower or FAA flight service station, these frequencies may be assigned on a secondary non-interference basis to aeronautical utility mobile stations, and may be used by FAA ground vehicles for safety related communications during inspections conducted at such landing areas.

The frequencies 122.850, 122.900 and 122.925 MHz may be assigned to aeronautical multicom stations. In addition, 122.850 MHz may be assigned on a secondary noninterference basis to aeronautical utility mobile stations. In case of 122.925 MHz, US213 applies.

Air carrier aircraft stations may use 122.000 and 122.050 MHz for communication with aeronautical stations of the Federal Aviation Administration and 122.700, 122.800, 122.900 and 123.000 MHz for communications with aeronautical stations pertaining to safety of flight with and in the vicinity of landing areas not served by a control tower.

Frequencies in the band 121.9375-122.6875 MHz may be used by aeronautical stations of the Federal Aviation Administration for communication with aircraft stations.

* * * * *

US343 Differential-Global-Positioning-System (DGPS) Stations, limited to ground-based transmitters, may be authorized on a primary basis in the bands 108-117.975 and 1559-1610 MHz for the specific purpose of transmitting DGPS information intended for aircraft navigation. Such use shall be in accordance with ITU Resolution 413 (WRC-03).

* * * * *

PART 87—AVIATION SERVICES

3. The authority citation for part 87 continues to read as follows:

Authority: 47 U.S.C. 154, 303, 307(e) unless otherwise noted.

4. Section 87.5 is amended by removing the entry for Civil Air Patrol Station and by adding the following three entries in alphabetical order to read as follows:

§ 87.5 Definitions.

* * * * *

Automatic terminal information service-broadcast (ATIS-B). The automatic provision of current, routine information to arriving and departing aircraft throughout a 24-hour period or a specified portion thereof.

* * * * *

Differential GPS (DGPS). A system which transmits corrections to the GPS derived position.

* * * * *

Flight Information Service-Broadcast (FIS-B). A broadcast service provided for the purpose of giving advice and information useful for the safe and efficient conduct of flights.

* * * * *

§ 87.25 [Amended]

5. Section 87.25 is amended by removing paragraph (f).

6. Section 87.27 is amended by removing paragraph (b), redesignating paragraph (c) as paragraph (b), and revising paragraph (a) to read as follows:

§ 87.27 License term.

(a) Licenses for stations in the aviation services will normally be issued for a term of ten years from the date of original issuance, or renewal.

* * * * *

7. Section 87.45 is revised to read as follows:

§ 87.45 Time in which station is placed in operation.

This section applies only to unicom stations and radionavigation land stations, excluding radionavigation land test stations. When a new license has been issued or additional operating frequencies have been authorized, the station or frequencies must be placed in operation no later than one year from the date of the grant. The licensee must notify the Commission in accordance with § 1.946 of this chapter that the station or frequencies have been placed in operation.

8. Section 87.109 is revised to read as follows:

§ 87.109 Station logs.

(a) A station at a fixed location in the international aeronautical mobile service must maintain a log in accordance with Annex 10 of the ICAO Convention.

(b) A station log must contain the following information:

(1) The name of the agency operating the station.

(2) The identification of the station.

(3) The date.

(4) The time of opening and closing the station.

(5) The frequencies being guarded and the type of watch (continuous or scheduled) being maintained on each frequency.

(6) Except at intermediate mechanical relay stations where the provisions of this paragraph need not be complied with, a record of each communication showing text of communication, time communications completed, station(s) communicated with, and frequency used.

(7) All distress communications and action thereon.

(8) A brief description of communications conditions and difficulties, including harmful interference. Such entries should include, whenever practicable, the time at which interference was experienced, the character, radio frequency and identification of the interfering signal.

(9) A brief description of interruption to communications due to equipment failure or other troubles, giving the duration of the interruption and action taken.

(10) Such additional information as may be considered by the operator to be of value as part of the record of the stations operations.

(c) Stations maintaining written logs must also enter the signature of each operator, with the time the operator assumes and relinquishes a watch.

9. Section 87.111 is revised to read as follows:

§ 87.111 Suspension or discontinuance of operation.

The licensee of any airport control tower station or radionavigation land station must notify the nearest FAA regional office upon the temporary suspension or permanent discontinuance of the station. The FAA regional office must be notified again when service resumes.

10. Section 87.131 is amended by revising the table entries for Aeronautical enroute and aeronautical fixed stations, Aircraft (Communication) stations—frequency bands UHF, VHF, HF, HF, Aircraft earth stations, and footnote 8 to read as follows:

§ 87.131 Power and emissions.

* * * * *

Class of station | Frequency band/frequency | Authorized emission(s) ⁹ | Maximum power ¹
* * * * * * *
Aeronautical enroute and aeronautical fixed | HF | R3E, H3E, J3E, J7B, H2B, J2D | 6 kw.
| HF | A1A, F1B, J2A, J2B | 1.5 kw.
| VHF | A3E, A9W G1D, A2D
* * * * * * *
Aircraft (Communication) | UHF | F2D, F9D, F7D | 25 watts.
| VHF | A3E, A9W, G1D, G7D, A2D | 55 watts.
| HF | R3E, H3E, J3E, J7B, H2B, J7D, J9W | 400 watts.
| HF | A1A, F1B, J2A, J2B | 100 watts.
* * * * * * *
Aircraft earth | UHF | G1D, G1E, G1W | 60 watts.⁸
* * * * * * *
* * * * *
⁸ Power may not exceed 60 watts per carrier, as measured at the input of the antenna subsystem, including any installed diplexer. The maximum EIRP may not exceed 2000 watts per carrier.

* * * * *

11. Section 87.133 is amended by revising paragraph (c) to read as follows:

§ 87.133 Frequency stability.

* * * * *

(c) For single-sideband transmitters, the tolerance is:

(1) All aeronautical stations on land—10 Hz.

(2) All aircraft stations—20 Hz.

* * * * *

12. Section 87.137 is amended by revising the entries for A3E ², A3E, F9D, G1D, G1E ¹⁶, and G1W ¹⁶ in the table in paragraph (a) and footnotes 2, 3, 9, 16 and by adding footnote 17 to read as follows:

§ 87.137 Types of emission.

(a) * * *

Class of emission | Emission designator | Authorized bandwidth (kilohertz): Below 50 MHz | Authorized bandwidth (kilohertz): Above 50 MHz | Authorized bandwidth (kilohertz): Frequency deviation
* * * * * * *
A3E ² | 6K00A3E |  | 50³ |
A3E | 5K6A3E |  | 8.33 kHz ¹⁷ |
* * * * * * *
F9D | 5M0F9D |  | ⁹ |
G1D | 16K0G1D |  | 20 kHz |
* * * * * * *
G1E ¹⁶ | 21K0G1E |  | 25 |
G1W ¹⁶ | 21K0G1W |  | 25 |
* * * * * * *
* * * * *
² For use with an authorized bandwidth of 8.0 kilohertz at radiobeacon stations. A3E will not be authorized:
(i) At existing radiobeacon stations that are not authorized to use A3 and at new radiobeacon stations unless specifically recommended by the FAA for safety purposes.
(ii) At existing radiobeacon stations currently authorized to use A3, subsequent to January 1, 1990, unless specificallly recommended by the FAA for safety purposes.
³ In the band 117.975-136 MHz, the authorized bandwidth is 25 kHz for transmitters approved after January 1, 1974.
⁹ To be specified on license.
* * * * *
¹⁶ Authorized for use by aircraft earth stations. Lower values of necessary and authorized bandwidth are permitted.
¹⁷ In the band 117.975-137 MHz, the Commission will not authorize any 8.33 kHz channel spaced transmissions or the use of their associated emission designator within the U.S. National Airspace System, except by avionics equipment manufacturers, and Flight Test Stations, which are required to perform installation and checkout of such radio systems prior to delivery to their customers for use outside U.S. controlled airspace. For transmitters certificated to tune to 8.33 kHz channel spacing as well as 25 kHz channel spacing, the authorized bandwidth is 8.33 kHz when tuned to an 8.33 kHz channel.
* * * * *

13. Section 87.139 is amended by removing paragraph (i)(2), redesignating paragraphs (i)(3) and (i)(4) as paragraphs (i)(2) and (i)(3), and revising paragraphs (h), (i)(1), and newly designated paragraph (i)(3) to read as follows:

§ 87.139 Emission limitations.

* * * * *

(h) For ELTs operating on 121.500 MHz, 243.000 MHz and 406.0-406.1 MHz the mean power of any emission must be attenuated below the mean power of the transmitter (pY) as follows:

(1) When the frequency is moved from the assigned frequency by more than 50 percent up to and including 100 percent of the authorized bandwidth the attenuation must be at least 25 dB;

(2) When the frequency is removed from the assigned frequency by more than 100 percent of the authorized bandwidth the attenuation must be at least 30 dB.

(i) * * *

(1) At rated output power, while transmitting a modulated single carrier, the composite spurious and noise output shall be attenuated by at least:

Frequency (MHz) | Attenuation (dB)¹
0.01 to 1525 | −135 dB/4 kHz
1525 to 1559 | −203 dB/4 kHz
1559 to 1585 | −155 dB/MHz
1585 to 1605 | −143 dB/MHz
1605 to 1610 | −117 dB/MHz
1610 to 1610.6 | −95 dB/MHz
1610.6 to 1613.8 | −80 dBW/MHz³
1613.8 to 1614 | −95 dB/MHz
1614 to 1626.5 | −70 dB/4 kHz
1626.5 to 1660 | −70 dB/4 kHz2, 3, 4
1660 to 1670 | −49.5 dBW/20 kHz2, 3, 4
1670 to 1735 | −60 dB/4 kHz
1735 to 12000 | −105 dB/4 kHz
12000 to 18000 | −70 dB/4 kHz
¹ These values are expressed in dB referenced to the carrier for the bandwidth indicated, and relative to the maximum emission envelope level, except where the attenuation is shown in dBW, the attenuation is expressed in terms of absolute power referenced to the bandwidth indicated.
² Attenuation measured within the transmit band excludes the band ± 35 kHz of the carrier frequency.
³ This level is not applicable for intermodulation products.
⁴ The upper limit for the excess power for any narrow-band spurious emission (excluding intermodulation products within a 30 kHz measurement bandwidth) shall be 10 dB above the power limit in this table.

* * * * *

(3) * * *

Frequency Offset (normalized to SR) | Attenuation (dB)
+/−0.75 × SR | 0
+/−1.40 × SR | 20
+/−2.95 × SR | 40

Where:

SR = Symbol Rate,

SR = 1 × channel rate for BPSK,

SR = 0.5 × channel rate for QPSK.

* * * * *

§ 87.145 [Amended]

14. Section 87.145 is amended by removing paragraph (c)(1) and redesignating paragraphs (c)(2) through (c)(5) as paragraphs (c)(1) through (c)(4).

15. Section 87.147 is amended by revising paragraphs (d) introductory text (d)(2), (d)(3), and (e) and by adding paragraph (f) to read as follows:

§ 87.147 Authorization of equipment.

* * * * *

(d) An applicant for certification of equipment intended for transmission in any of the frequency bands listed in paragraph (d)(3) of this section must notify the FAA of the filing of a certification application. The letter of notification must be mailed to: FAA, Office of Spectrum Policy and Management, ASR-1, 800 Independence Ave., SW., Washington, DC 20591 prior to the filing of the application with the Commission.

* * * * *

(2) The certification application must include a copy of the notification letter to the FAA. The Commission will not act until it receives the FAA's determination regarding whether it objects to the application for equipment authorization. The FAA should mail its determination to: Office of Engineering and Technology Laboratory, Authorization and Evaluation Division, 7435 Oakland Mills Rd., Columbia, MD 21046. The Commission will consider the FAA determination before taking final action on the application.

(3) The frequency bands are as follows:

90-110 kHz

190-285 kHz

325-435 kHz

74.800 MHz to 75.200 MHz

108.000 MHz to 137.000 MHz

328.600 MHz to 335.400 MHz

960.000 MHz to 1215.000 MHz

1545.000 MHz to 1626.500 MHz

1646.500 MHz to 1660.500 MHz

5000.000 MHz to 5250.000 MHz

14.000 GHz to 14.400 GHz

15.400 GHz to 15.700 GHz

24.250 GHz to 25.250 GHz

31.800 GHz to 33.400 GHz

(e) Verification reports for ELTs capable of operating on the frequency 406.0-406.1 MHz must include sufficient documentation to show that the ELT meets the requirements of § 87.199(a). A letter notifying the FAA of the ELT verification must be mailed to: FAA, Office of Spectrum Policy and Management, ASR-1, 800 Independence Avenue SW., Washington, DC 20591.

(f) Certification may be requested for equipment that has the capability to transmit in the 138-144 MHz, 148-149.9 MHz, or 150.5-150.8 MHz bands as well as frequency bands set forth in § 87.173. The Commission will only certify this equipment for use in the bands regulated by this part.

16. Section 87.151 is added to read as follows:

§ 87.151 Special requirements for differential GPS receivers.

(a) The receiver shall achieve a message failure rate less than or equal to one failed message per 1000 full-length (222 bytes) application data messages, while operating over a range from −87 dBm to −1 dBm, provided that the variation in the average received signal power between successive bursts in a given time slot shall not exceed 40 dB. Failed messages include those lost by the VHF data receiver system or which do not pass the cyclic redundancy check (CRC) after application of the forward error correction (FEC).

(b) The aircraft receiving antenna can be horizontally or vertically polarized. Due to the difference in the signal strength of horizontally and vertically polarized components of the broadcast signal, the total aircraft implementation loss is limited to 15 dB for horizontally polarized receiving antennas and 11 dB for vertically polarized receiving antennas.

(c) Desensitization. The receiver shall meet the requirements specified in paragraph (a) of this section in the presence of VHF-FM broadcast signals in accord with following tables.

(1) Maximum levels of undesired signals.

Frequency ¹ | Maximum level of undesired signal at the receiver input (dBm)
50 kHz up to 88 MHz | −13
88 MHz-107.900 MHz | [see paragraph (c)(2)]
108.000 MHz-117.975 MHz | excluded
118MHz | −44
118.025 MHz | −41
118.050 MHz up to 1660.5 MHz | −13
¹ The relationship is linear between single adjacent points designated by the above frequencies.

(2) Desensitization frequency and power requirements for the frequencies 108.025 MHz to 111.975 MHz.

Frequency ¹ | Maximum level of undesired signal at the receiver input (dBm)
88 MHz ≤ f ≤ 102 MHz | 15
104 MHz | 10
106 MHz | 5
107.9 MHz | −10
¹ The relationship is linear between single adjacent points designated by the above frequencies.

(3) Desensitization frequency and power requirements for the frequencies 112.00 MHz to 117.975 MHz.

Frequency ¹ | Maximum level of undesired signal at the receiver input (dBm)
88 MHz ≤ f ≤ 104 MHz | 15
106 MHz | 10
107 MHz | 5
107.9 MHz | 0
¹ The relationship is linear between single adjacent points designated by the above frequencies.

(d) Intermodulation Immunity. The receiver shall meet the requirements specified in paragraph (a) of this section in the presence of interference from two-signal, third order intermodulation products of two VHF-FM broadcast signals having levels in accordance with the following:

(1) 2N1 + N2 + 72 ≤ 0 for VHF-FM sound broadcasting signals in the range 107.7-108 MHz; and

(2) 2N1 + N2 + 3 (24 −20log delta f/0.4) ≤ 0 for VHF-FM sound broadcasting signals below 107.7 MHz, where the frequencies of the two VHF-FM sound broadcasting signals produce, within the receiver, a two signal, third-order intermodulation product on the desired VDB frequency.

(3) In the formulas in paragraphs (d)(1) and (d)(2) of this section, N1 and N2 are the levels (dBm) of the two VHF FM sound broadcasting signals at the VHF data broadcast (VDB) receiver input. Neither level shall exceed the desensitization criteria set forth in paragraph (c) of this section. Delta f = 108.1 − f1, where f1 is the frequency of N1, the VHF FM sound broadcasting signal closer to 108.1 MHz.

17. Section 87.169 is revised to read as follows:

§ 87.169 Scope.

This subpart contains class of station symbols and a frequency table which lists assignable frequencies. Frequencies in the Aviation Services will transmit communications for the safe, expeditious, and economic operation of aircraft and the protection of life and property in the air. Each class of land station may communicate in accordance with the particular sections of this part which govern these classes. Land stations in the Aviation Services in Alaska may transmit messages concerning sickness, death, weather, ice conditions or other matters relating to safety of life and property if there is no other established means of communications between the points in question and no charge is made for the communications service.

18. Section 87.171 is amended by adding, in alphabetical order, the symbols and class of station for GCO, RCO, RLD, RNV, and RPC, and by removing the symbol and class of station for FAP to read as follows:

§ 87.171 Class of station symbols.

* * * * *

GCO—Ground Communication Outlet

* * * * *

RCO—Remote Communications Outlet

* * * * *

RLD—RADAR/TEST

* * * * *

RNV—Radio Navigation Land/DME

RPC—Ramp Control

* * * * *

19. Section 87.173 is amended by revising the entries for 325-405 kHz, 2371.0 kHz, 2374.0 kHz, 2935.0 kHz, 4466.0 kHz, 4469.0 kHz, 4506.0 kHz, 4509.0 kHz, 4582.0 kHz, 4585.0 kHz, 4601.0 kHz, 4604.0 kHz, 4627.0 kHz, 4630.0 kHz, 26618.5 kHz, 26620.0 kHz, 26621.5 kHz, 108.000-117.950 MHz, 118.000-121.400 MHz, 121.600-121.925 MHz, 121.975 MHz, 122.000 MHz, 122.025 MHz, 122.050 MHz, 122.075 MHz, 122.100 MHz, 122.125-122.675 MHz, 122.725 MHz, 122.950 MHz, 122.975 MHz, 123.050 MHz, 123.075 MHz, 123.6-128.8 MHz, 132.025-135.975 MHz, 136.000-136.400 MHz, 136.425 MHz, 136.450 MHz, 136.475 MHz, 143.900 MHz, 148.150 MHz, 960-1215 MHz, 1559-1626.5 MHz, 2700-2900 MHz, and 9000-9200 MHz, adding entries for 510-535 kHz, 108.000-117.975 MHz, 143.750 MHz, 406.0-406.1 MHz, and 1559-1610 MHz, and removing the entries for 510.525 kHz, 143.75 MHz, and 406.025 MHz in the table in paragraph (b) to read as follows:

§ 87.173 Frequencies.

* * * * *

(b) Frequency table:

Frequency or frequency band | Subpart | Class of station | Remarks
* * * * * * *
325-405 kHz | Q | RLB | Radiobeacons.
* * * * * * *
510-535 kHz | Q | RLB | Radiobeacons.
2371.0 kHz |  |  | [Reserved].
2374.0 kHz |  |  | [Reserved].
* * * * * * *
2935.0 kHz | I | MA, FAE | International HF (NP).
* * * * * * *
4466.0 kHz |  |  | [Reserved].
4469.0 kHz |  |  | [Reserved].
4506.0 kHz |  |  | [Reserved].
4509.0 kHz |  |  | [Reserved].
* * * * * * *
4582.0 kHz |  |  | [Reserved].
4585.0 kHz |  |  | [Reserved].
4601.0 kHz |  |  | [Reserved].
4604.0 kHz |  |  | [Reserved].
4627.0 kHz |  |  | [Reserved].
4630.0 kHz |  |  | [Reserved].
* * * * * * *
26618.5 kHz |  |  | [Reserved].
26620.0 kHz |  |  | [Reserved].
26621.5 kHz |  |  | [Reserved].
* * * * * * *
108.000-117.950 MHz | Q | RLO | VHF omni-range.
108.000-117.975 MHz | Q | DGP | Differential GPS.
* * * * * * *
118.000-121.400 MHz | O | MA, FAC, FAW, GCO, RCO, RPC | 25 kHz channel spacing.
* * * * * * *
121.600-121.925 MHz | I, O, L, Q | MA, FAC, MOU, RLT, GCO, RCO, RPC | 25 kHz channel spacing.
* * * * * * *
121.975 MHz | F | MA, FAW, FAC, MOU | Air traffic control operations.
122.000 MHz | F | MA, FAC, MOU | Air carrier and private aircraft enroute flight advisory service provided by FAA.
122.025 MHz | F | MA, FAC, MOU | Air traffic control operations.
122.050 MHz | F | MA, FAC, MOU | Air traffic control operations.
122.075 MHz | F | MA, FAW, FAC, MOU | Air traffic control operations.
122.100 MHz | F, O | MA, FAC, MOU | Air traffic control operations.
122.125-122.675 MHz | F | MA, FAC, MOU | Air traffic control operations; 25 kHz spacing.
* * * * * * *
122.725 MHz | G, L | MA, FAU, MOU | Unicom at airports with no control tower; Aeronautical utility stations.
* * * * * * *
122.950 MHz | G, L | MA, FAU, MOU | Unicom at airports with no control tower; Aeronautical utility stations.
122.975 MHz | G, L | MA, FAU, MOU | Unicom at airports with no control tower; Aeronautical utility stations.
* * * * * * *
123.050 MHz | G, L | MA, FAU, MOU | Unicom at airports with no control tower; Aeronautical utility stations.
123.075 MHz | G, L | MA, FAU, MOU | Unicom at airports with no control tower; Aeronautical utility stations.
* * * * * * *
123.6-128.8 MHz | O | MA, FAC, FAW, GCO, RCO, RPC | 25 kHz channel spacing.
* * * * * * *
132.025-135.975 MHz | O | MA, FAC, FAW, GCO, RCO, RPC | 25 kHz channel spacing.
136.000-136.400 MHz | O, S | MA, FAC, FAW, GCO, RCO, RPC | Air traffic control operations; 25 kHz channel spacing.
136.425 MHz | O, S | MA, FAC, FAW, GCO, RCO, RPC | Air traffic control operations.
136.450 MHz | O, S | MA, FAC, FAW, GCO, RCO, RPC | Air traffic control operations.
136.475 MHz | O, S | MA, FAC, FAW, GCO, RCO, RPC | Air traffic control operations.
* * * * * * *
143.750 MHz |  |  | [Reserved].
143.900 MHz |  |  | [Reserved].
148.150 MHz |  |  | [Reserved].
* * * * * * *
406.0-406.1 MHz | F, G, H, I, J, K, M, O | MA, FAU, FAE, FAT, FAS, FAC, FAM, FAP | Emergency and distress.
960-1215 MHz | F, Q | MA, RL, RNV | Electronic aids to air navigation.
* * * * * * *
1559-1610 MHz | Q | DGP | Differential GPS.
1559-1626.5 MHz | F, Q | MA, RL | Aeronautical radionavigation.
* * * * * * *
2700-2900 MHz | Q | RLS, RLD | Airport surveillance and weather radar.
* * * * * * *
9000-9200 MHz | Q | RLS, RLD | Land-based radar.
* * * * * * *

20. Section 87.187 is amended by revising paragraphs (m) and (q) and adding a new paragraph (ee) to read as follows:

§ 87.187 Frequencies.

* * * * *

(m) The frequency 406.0-406.1 MHz is an emergency and distress frequency available for use by emergency locator transmitters. Use of this frequency must be limited to transmission of distress and safety communications.

* * * * *

(q)(1) The frequencies in the bands 1545.000-1559.000 MHz, 1610.000-1626.500 MHz, 1646.500-1660.500 MHz, and 5000.000-5150.000 MHz are authorized for use by the Aeronautical Mobile-Satellite (R) Service. The use of the bands 1544.000-1545.000 MHz (space-to-Earth) and 1645.500-1646.500 MHz (Earth-to-space) by the Mobile-Satellite Service is limited to distress and safety operations. In the frequency bands 1549.500-1558.500 MHz, 1610.000-1626.500 MHz 1651.000-1660.000 MHz, and 5000.000-5150.000 MHz, the Aeronautical Mobile-Satellite (R) requirements that cannot be accommodated in the 1545.000-1549.5000 MHz, 1558.500-1559.000 MHz, 1646.500-1651.000 MHz, and 1660.000-1660.500 MHz bands shall have priority access with real-time preemptive capability for communications in the Mobile-Satellite Service. Systems not interoperable with the Aeronautical Mobile-Satellite (R) Service shall operate on a secondary basis. Account shall be taken of the priority of safety-related communications in the Mobile-Satellite Service.

(2) In the frequency bands 1549.5-1558.5 MHz, 1610-1626.5 MHz, 1651-1660 MHz and 5000-5150 MHz, the Aeronautical-Mobile-Satellite (Route) Service requirements that cannot be accommodated in the 1545-1549.5 MHz, 1558.5-1559 MHz, 1646.5-1651 MHz and 1660-1660.5 MHz bands shall have priority access with real-time preemptive capability for communications in the mobile satellite service. Systems not interoperable with the Aeronautical Mobile-Satellite (Route) Service shall operate on a secondary basis. Account shall be taken of the priority of safety-related communications in the mobile-satellite service.

* * * * *

(ee) The frequency 121.95 MHz is authorized for air-to-ground and air-to-air communications for aircraft up to 13000 feet above mean sea level (AMSL) within the area bounded by the following coordinates (all coordinates are referenced to North American Datum 1983 (NAD83)):

32-35-00 N. Lat.; 117-12-00 W. Long.

32-42-00 N. Lat.; 116-56-00 W. Long.

32-41-00 N. Lat.; 116-41-00 W. Long.

32-35-00 N. Lat.; 116-38-00 W. Long.

32-31-00 N. Lat.; 117-11-00 W. Long.

21. Section 87.189 is amended by revising paragraph (c) to read as follows:

§ 87.189 Requirements for public correspondence equipment and operations.

* * * * *

(c) A continuous watch must be maintained on the frequencies used for safety and regularity of flight while public correspondence communications are being handled. For aircraft earth stations, this requirement is satisfied by compliance with the priority and preemptive access requirements of § 87.187(q).

* * * * *

22. Section 87.195 is amended by revising paragraph (a) to read as follows:

§ 87.195 Frequencies.

(a) ELTs transmit on the frequency 121.500 MHz, using A3E, A3X or NON emission. ELTs that transmit on the frequency 406.0-406.1 MHz use G1D emission.

* * * * *

23. Section 87.199 is revised to read as follows:

§ 87.199 Special requirements for 406.0-406.1 MHz ELTs.

(a) Except for the spurious emission limits specified in § 87.139(h), 406.0-406.1 MHz ELTs must meet all the technical and performance standards contained in the Radio Technical Commission for Aeronautics document titled “Minimum Operational Performance Standards 406 MHz Emergency Locator Transmitters (ELT)” Document No. RTCA/DO-204 dated September 29, 1989. This RTCA document is incorporated by reference in accordance with 5 U.S.C. 552(a), and 1 CFR part 51. Copies of the document are available and may be obtained from the Radio Technical Commission of Aeronautics, One McPherson Square, 1425 K Street NW., Washington, DC 20005. The document is available for inspection at Commission headquarters at 445 12th Street, SW., Washington, DC 20554. Copies may also be inspected at the Office of the Federal Register, 800 North Capital Street NW., suite 700, Washington, DC.

(b) The 406.0-406.1 MHz ELT must contain as an integral part a homing beacon operating only on 121.500 MHz that meets all the requirements described in the RTCA Recommended Standards document described in paragraph (a) of this section. The 121.500 MHz homing beacon must have a continuous duty cycle that may be interrupted during the transmission of the 406.0-406.1 MHz signal only.

(c) Prior to verification of a 406.0-406.1 MHz ELT, the ELT must be certified by a test facility recognized by one of the COSPAS/SARSAT Partners that the equipment satisfies the design characteristics associated with the COSPAS/SARSAT document COSPAS/SARSAT 406 MHz Distress Beacon Type Approval Standard (C/S T.007). Additionally, an independent test facility must certify that the ELT complies with the electrical and environmental standards associated with the RTCA Recommended Standards.

(d) The procedures for verification are contained in subpart J of part 2 of this chapter.

(e) An identification code, issued by the National Oceanic and Atmospheric Administration (NOAA), the United States Program Manager for the 406.0-406.1 MHz COSPAS/SARSAT satellite system, must be programmed in each ELT unit to establish a unique identification for each ELT station. With each marketable ELT unit the manufacturer or grantee must include a postage pre-paid registration card printed with the ELT identification code addressed to: NOAA/SARSAT Beacon Registration, E/SP3, Federal Building 4, Room 3320, 5200 Auth Road, Suitland, MD 20746-4304. The registration card must request the owner's name, address, telephone, type of aircraft, alternate emergency contact, and other information as required by NOAA. The registration card must also contain information regarding the availability to register the ELT at NOAA's online Web-based registration database at: http://www.beaconregistration.noaa.gov. Further, the following statement must be included: “WARNING “ Failure to register this ELT with NOAA before installation could result in a monetary forfeiture being issued to the owner.”

(f) To enhance protection of life and property, it is mandatory that each 406.0-406.1 MHz ELT must be registered with NOAA before installation and that information be kept up-to-date. In addition to the identification plate or label requirements contained in §§ 2.925 and 2.926 of this chapter, each 406.0-406.1 MHz ELT must be provided on the outside with a clearly discernable permanent plate or label containing the following statement: “The owner of this 406.0-406.1 MHz ELT must register the NOAA identification code contained on this label with the National Oceanic and Atmospheric Administration (NOAA), whose address is: NOAA/SARSAT Beacon Registration, E/SP3, Federal Building 4, Room 3320, 5200 Auth Road, Suitland, MD 20746-4304.” Aircraft owners shall advise NOAA in writing upon change of aircraft or ELT ownership, or any other change in registration information. Fleet operators must notify NOAA upon transfer of ELT to another aircraft outside of the owner's control, or an other change in registration information. NOAA will provide registrants with proof of registration and change of registration postcards.

(g) For 406.0-406.1 MHz ELTs whose identification code can be changed after manufacture, the identification code shown on the plant or label must be easily replaceable using commonly available tools.

24. Section 87.215 is amended by redesignating paragraphs (c) and (d) as paragraphs (f) and (g), adding new paragraphs (c), (d), and (e), and by removing the Effective Date Note to read as follows:

§ 87.215 Supplemental eligibility.

* * * * *

(c) At an airport where only one unicom may be licensed, eligibility for new unicom licenses is restricted to State or local government entities, and to nongovernmental organizations (NGOs) that are authorized to apply for the license by a State or local government entity whose primary mission is the provision of public safety services. All applications submitted by NGOs must be accompanied by a new, written certification of support (for the NGO applicant to operate the applied for station) by the state or local government entity. Applications for a unicom license at the same airport, where only one unicom may be licensed, that are filed by two or more applicants meeting these eligibility criteria must be resolved through settlement or technical amendment.

(d) At an airport where only one unicom may be licensed, the license may be assigned or transferred only to an entity meeting the requirements of paragraph (c) of this section.

(e) An applicant for renewal of a unicom license shall be granted a presumptive renewal expectancy regardless of whether the applicant is eligible for a new unicom license under paragraph (c) of this section. Unless the renewal expectancy is defeated, applications that are mutually exclusive with the renewal application will not be accepted. The renewal expectancy may be defeated only upon a determination, following a hearing duly designated on the basis of a petition to deny or on the Commission's own motion, that the renewal applicant has not provided substantial service. For purposes of this paragraph, substantial service means service which is sound, favorable, and substantially above a level of mediocre service during the applicant's past license term. If the renewal expectancy is defeated, the renewal application will be dismissed unless the renewal applicant is eligible for a new unicom license pursuant to paragraph (c) of this section.

* * * * *

25. Section 87.217 is amended by revising paragraph (a) introductory text to read as follows:

§ 87.217 Frequencies.

(a) Only one unicom frequency will be assigned at any one airport. Applicants must request a particular frequency, which will be taken into consideration when the assignment is made. The frequencies assignable to unicoms are:

* * * * *

26. Section 87.421 is amended by revising paragraph (c) to read as follows:

§ 87.421 Frequencies.

* * * * *

(c) Frequencies in the band 121.600-121.925 MHz are available to control towers and RCOs for general air traffic control communications. The antenna heights shall be restricted to the minimum necessary to achieve the required coverage. Channel spacing is 25 kHz.

* * * * *

27. Section 87.475 is amended by revising paragraphs (b)(2) and (c)(2) introductory text to read as follows:

§ 87.475 Frequencies.

* * * * *

(b) * * *

(2) Radiobeacon stations enable an aircraft station to determine bearing or direction in relation to the radiobeacon station. Radiobeacons operate in the bands 190-285 kHz; 325-435 kHz; 510-525 kHz; and 525-535 kHz. Radiobeacons may be authorized, primarily for off-shore use, in the band 525-535 kHz on a non-interference basis to travelers information stations.

* * * * *

(c) * * *

(2) The frequencies available for assignment to radionavigation land test stations for the testing of airborne receiving equipment are 108.000 and 108.050 MHz for VHF omni-range; 108.100 and 108.150 MHz for localizer; 334.550 and 334.700 MHz for glide slope; 978 and 979 MHz (X channel)/1104 MHz (Y channel) for DME; 1030 MHz for air traffic control radar beacon transponders; 1090 MHz for Traffic Alert and Collision Avoidance Systems (TCAS); and 5031.0 MHz for microwave landing systems. Additionally, the frequencies in paragraph (b) of this section may be assigned to radionavigation land test stations after coordination with the FAA. The following conditions apply:

* * * * *

Subpart R—[Removed and Reserved]

28. Remove and reserve subpart R.

29. Section 87.529 is revised to read as follows:

§ 87.529 Frequencies.

Prior to submitting an application, each applicant must notify the applicable FAA Regional Frequency Management Office. Each application must be accompanied by a statement showing the name of the FAA Regional Office and date notified. The Commission will assign the frequency. Normally, frequencies available for air traffic control operations set forth in Subpart E will be assigned to an AWOS, ASOS, or to an ATIS. When a licensee has entered into an agreement with the FAA to operate the same station as both an AWOS and as an ATIS, or as an ASOS and an ATIS, the same frequency will be used in both modes of operation.

PART 95—PERSONAL RADIO SERVICES

30. The authority citation for part 95 continues to read as follows:

Authority: Sections 4, 303, 48 Stat. 1066, 1082, as amended; 47 U.S.C. 154, 303.

31. Section 95.655 is amended by revising paragraph (a) to read as follows:

§ 95.655 Frequency capability.

(a) No transmitter will be certificated for use in the CB service if it is equipped with a frequency capability not listed in § 95.625, and no transmitter will be certificated for use in the GMRS if it is equipped with a frequency capability not listed in § 95.621, unless such transmitter is also certificated for use in another radio service for which the frequency is authorized and for which certification is also required. (Transmitters with frequency capability for the Amateur Radio Services and Military Affiliate Radio System will not be certificated.)

* * * * *

[FR Doc. 04-13323 Filed 6-10-04; 8:45 am]

BILLING CODE 6712-01-P